DEPARTMENT OF TRANSPORTATION

Surface Transportation Board

[STB Finance Docket No. 34811]

New Amsterdam & Seneca Railroad Company, LLC—Lease and Operation Exemption—Line in Fostoria, OH

New Amsterdam & Seneca Railroad Company (NASR), a noncarrier, has filed a verified notice of exemption under 49 CFR 1150.31 to lease from Sunny Farms Landfill, LLC (Sunny Farms), also a noncarrier, and operate approximately 1.25 miles of rail line in Fostoria, OH.¹ The line does not have any milepost numbers but it connects with CSX Transportation's Fostoria Subdivision line at milepost BI 36.

¹ NASR and Sunny Farms are both wholly owned subsidiaries of Regus Industries, LLC, which is in turn controlled by Gordon Reger. Mr. Reger also has a controlling interest in the New York Cross Harbor Railroad Corporation, a Class III rail carrier.

NASR certifies that its projected annual revenues as a result of the transaction will not exceed those that would qualify it as a Class III rail carrier and will not exceed $5 million.

NASR states that the parties propose to consummate the transaction on or after January 15, 2006.²

² Prior to consummation, Mr. Reger will require Board authorization to continue in control of NASR upon NASR's becoming a Class III rail carrier.

If the verified notice contains false or misleading information, the exemption is void ab initio. Petitions to revoke the exemption under 49 U.S.C. 10502(d) may be filed at any time. The filing of a petition to revoke will not automatically stay the transaction.

An original and 10 copies of all pleadings, referring to STB Finance Docket No. 34811, must be filed with the Surface Transportation Board, 1925 K Street, NW., Washington, DC 20423-0001. In addition, a copy of each pleading must be served on James E. Howard LLC, One Thompson Square, Suite 201, Charleston, MA 02129.

Board decisions and notices are available on our Web site at http://www.stb.dot.gov.

Decided: January 12, 2006.
By the Board, David M. Konschnik, Director, Office of Proceedings.
Vernon A. Williams,
Secretary.

[FR Doc. 06-477 Filed 1-19-06; 8:45 am]

BILLING CODE 4915-01-P